NATIONAL SCIENCE FOUNDATION

National Science Board; Sunshine Act Meetings; Notice

The National Science Board's Committee on Programs and Plans (CPP) Task Force on Unsolicited Mid-Scale Research (MS), pursuant to NSF regulations (45 CFR part 614), the National Science Foundation Act, as amended (42 U.S.C. 1862n-5), and the Government in the Sunshine Act (5 U.S.C. 552b), hereby gives notice in regard to the scheduling of a teleconference for the transaction of National Science Board business and other matters specified, as follows:

DATE AND TIME: April 19, 2011, 11 a.m.-12 p.m. EDT.

SUBJECT MATTER: (1) Summary of the March 31, 2011 National Science Board (NSB) Mid-Scale Research Task Force small discussion group meeting in Denver, Colorado; (2) Update on the Mid-Scale Research Task Force survey development; (3) Update and discussion of the June 5-7 Mid-Scale Research Task Force workshop plans; and, (4) Discussion of the May NSB Mid-Scale Research Task Force meeting agenda

STATUS: Open.

LOCATION: This meeting will be held by teleconference at the National Science Board Office, National Science Foundation, 4201Wilson Blvd., Arlington, VA 22230. A room will be available for the public to listen-in to this meeting held by teleconference at Stafford Place I, National Science Foundation, 4201Wilson Blvd., Arlington, VA 22230. All visitors must contact the Board Office [call 703-292-7000 or send an e-mail message to nationalsciencebrd@nsf.gov] at least 24 hours prior to the teleconference for the room number and provide name and organizational affiliation. All visitors must report to the NSF visitor desk located in the lobby at the 9th and N. Stuart Streets entrance on the day of the teleconference to receive a visitor's badge.

UPDATES AND POINT OF CONTACT: Please refer to the National Science Board website http://www.nsf.gov/nsb for additional information and schedule updates (time, place, subject matter or status of meeting) may be found at http://www.nsf.gov/nsb/notices/. Point of contact for this meeting is: Matthew B. Wilson, National Science Board Office, 4201Wilson Blvd., Arlington, VA 22230. Telephone: (703) 292-7000.

Daniel A. Lauretano,
Counsel to the National Science Board.

[FR Doc. 2011-9053 Filed 4-11-11; 11:15 am]

BILLING CODE 7555-01-P